DEPARTMENT OF HOUSING AND URBAN DEVELOPMENT

[Docket No. FR-5700-FA-18]

Announcement of Funding Awards, Choice Neighborhoods Grant Program, Fiscal Year 2013

AGENCY: Office of the Assistant Secretary for Public and Indian Housing and Office of Multifamily Programs, HUD.

ACTION: Announcement of funding awards.

SUMMARY: In accordance with Section 102(a)(4)(C) of the Department of Housing and Urban Development Reform Act of 1989, this announcement notifies the public of funding decisions made by the Department in a competition for funding under the Fiscal Year 2013 (FY2013) Notice of Funding Availability (NOFA) for the Choice Neighborhoods Planning Grants. This announcement contains the consolidated names and addresses of these award recipients under the Choice Neighborhoods Grant Program for FY2013.

FOR FURTHER INFORMATION CONTACT: For questions concerning the Choice Neighborhoods Grant Program awards, contact Ms. Mindy Turbov, Director of the Choice Neighborhoods Program, Office of Public Housing Investments, 451 7th Street, SW., Room 4130, Washington, DC 20410, telephone (202) 401-8812. Hearing or speech-impaired individuals may access this number via TTY by calling the toll-free Federal Relay Service at (800) 877-8339.

SUPPLEMENTARY INFORMATION: The Choice Neighborhoods Program employs a comprehensive approach to community development centered on housing transformation. The program aims to transform neighborhoods of poverty into viable mixed-income neighborhoods with access to economic opportunities by revitalizing severely distressed public and assisted housing and investing and leveraging investments in well-functioning services, effective schools and education programs, public assets, public transportation, and improved access to jobs. Choice Neighborhoods Planning Grants support the development of comprehensive neighborhood revitalization plans which focused on directing resources to address three core goals: Housing, People and Neighborhoods. To achieve these core goals, communities must develop and implement a comprehensive neighborhood revitalization strategy, or Transformation Plan. The Transformation Plan will become the guiding document for the revitalization of the public and/or assisted housing units while simultaneously directing the transformation of the surrounding neighborhood and positive outcomes for families.

The FY2013 Choice Neighborhoods Planning Grant awards totaled $4,374,000 and nine applicants were selected for funding in a competition, the results of which were announced on November 22, 2013. At that time, and in addition to the applicant and Congressional notification processes, the grantees were posted to the HUD Web site at: http://portal.hud.gov/hudportal/HUD?src=/press/press_releases_media_advisories/2013/HUDNo.13-175 and http://portal.hud.gov/hudportal/HUD?src=/program_offices/public_indian_housing/programs/ph/cn/planninggrants. Applications were scored and selected for funding based on the selection criteria in the FY2013 Choice Neighborhoods Planning Grant NOFA.

In accordance with Section 102 (a)(4)(C) of the Department of Housing and Urban Development Reform Act of 1989 (103 Stat.1987, 42 U.S.C. 3545), the Department is publishing the names, addresses, and amounts of the Choice Neighborhoods awards made under the competition in Appendix A to this document.

Dated: December 17, 2013.
Sandra B. Henriquez,
Assistant Secretary for Public and Indian Housing.

Appendix A

Choice neighborhoods planning lead grantee name and contact information | Amount funded | Target public or assisted housing | Neighborhood
City of Baton Rouge/Parish of East Baton Rouge, 222 Saint Louis Street, Baton Rouge, LA 70802-5817 | $500,000.00 | Ardenwood Village | Melrose East-Smiley Heights.
Housing Authority of the City and County of Denver, 777 Grant Street, Denver, CO 80203-3501 | 500,000.00 | Sun Valley Homes; Sun Valley Annex | Sun Valley.
Youth Policy Institute, 634 South Spring Street, Los Angeles, CA 90014-3912 | 500,000.00 | Las Palmas Gardens; Castle Argyle Apartments | Los Angeles Choice Neighborhood (Hollywood).
Housing Authority of the City of Meriden, 22 Church Street, Meriden, CT 06451-3209 | 500,000.00 | Mills Memorial Apartments | Mills Memorial/Central Business Neighborhood.
Housing Authority of the City of New Bern, 837 S. Front Street, New Bern, NC 28562-5650 | 500,000.00 | Craven Terrace and Trent Court | Greater Five Points.
Philadelphia Housing Authority, 12 South 23rd Street, Philadelphia, PA 19103-3014 | 500,000.00 | Norman Blumberg Apartments | Sharswood/Blumberg.
Housing Authority of the City of Sacramento, 801 12th Street, Sacramento, CA 95814-2947 | 500,000.00 | Alder Grove; Marina Vista | Upper Land Park—Broadway.
County of St. Louis, 41 South Central Avenue, 5th Floor, Clayton, MO 63105-1725 | 474,000.00 | Wellston public housing | North Wellston.
Housing Authority of the City of Winston-Salem, 500 West Fourth Street, Winston-Salem, NC 27101-2782 | 500,000.00 | Cleveland Avenue Homes | Cleveland Avenue.
Total | 4,374,000 |  |

[FR Doc. 2013-31248 Filed 12-27-13; 8:45 am]

BILLING CODE 4210-67-P